SMALL BUSINESS ADMINISTRATION

Notice of Action Subject to Intergovernmental Review

AGENCY: U.S. Small Business Administration.

ACTION: Notice of Action Subject to Intergovernmental Review Under Executive Order 12372.

SUMMARY: The Small Business Administration (SBA) is notifying the public that it intends to grant the pending applications of 41 existing Small Business Development Centers (SBDCs) for refunding on January 1, 2015 subject to the availability of funds. A short description of the SBDC program follows in the supplementary information below.

The SBA is publishing this notice at least 90 days before the expected refunding date. The SBDCs and their mailing addresses are listed below in the address section. A copy of this notice also is being furnished to the respective State single points of contact designated under the Executive Order. Each SBDC application must be consistent with any area-wide small business assistance plan adopted by a State-authorized agency.

DATES: A State single point of contact and other interested State or local entities may submit written comments regarding an SBDC refunding within 30 days from the date of publication of this notice to the SBDC.

ADDRESSES:

Addresses of Relevant SBDC State Directors
Mr. Sherman Wilkinson, SBDC State Director, Salt Lake Community College, 9750 South 300 West, Sandy, UT 84070, (801) 957-5384 | Mr. Herbert Thweatt, SBDC State Director, American Samoa Community College, P.O. Box 2609, Pago Pago, American Samoa 96799, (684) 699-4830.
Ms. Michele Abraham, SBDC State Director, University of South Carolina, 1705 College Street, Columbia, SC 29208, (803) 777-4555 | Mr. Michael Myhre, SBDC State Director, University of West Florida, 11000 University Parkway, Bldg. 38, Pensacola, FL 32514, (850) 473-7802.
Ms. Diane R. Howerton, SBDC Regional Director, University of California, Merced, 550 East Shaw, Suite 100, Fresno, CA 93710, (559) 241-6590 | Mr. Sam Males, SBDC State Director, University of Nevada Reno, College of Business Admin., Room 441, Reno, NV 89557-0100, (775) 784-1717.
Ms. Aleta Wilson, SBDC Regional Director, SW Community College District, 880 National City Blvd., National City, CA 91950, (619) 216-6721 | Mr. Mark DeLisle, SBDC State Director, University of Southern Maine, 501 Forest Avenue, Portland, ME 04104, (207) 780-4420.
Mr. Casey Jeszenka, SBDC State Director, University of Guam, P.O. Box 5014—U.O.G. Station, Mangilao, GU 96923, (671) 735-2590 | Mr. Jesse Torres, SBDC Regional Director, Long Beach Community College, 4901 E Carson Street, MC 05, Long Beach, CA 90808, (562) 938-5020.
Mr. Dan Ripke, SBDC State Director, California State University, Chico, Building 35, CSU Chico, Chico, CA 95929, (530) 898-4598 | Ms. Kristin Johnson, SBDC Regional Director, Humboldt State University, Office of Economic & Community Dev., 1 Harpst Street, House 71, Room 110, Arcata, CA 95521, (707) 826-3920.
Ms. Priscilla Lopez, SBDC Regional Director, CSU Fullerton Auxiliary Services Corp., 800 North State College Blvd., SGMH 5313, Fullerton, CA 92831, (657) 278-2719 | Ms. Janice Washington, SBDC State Director, Maricopa County Community College, 2411 West 14th Street, Suite 132, Tempe, AZ 85281-6942, (480) 731-8722.
Ms. Janet Rodrick, SBDC State Director, University of Arkansas, 2801 South University Avenue, Little Rock, AR 72204, (501) 683-7700 | Mr. Darrell Brown, SBDC Executive Director, Howard University, 2600 6th Street NW., Washington, DC 20059, (202) 806-1550.
Mr. Allan Adams, SBDC State Director, University of Georgia, Chicopee Complex, 1180 East Broad Street, Athens, GA 30602, (706) 542-6762 | Ms. Bonita Wikenheiser, SBDC State Director, University of North Dakota, Bank of North Dakota Building, 1200 Memorial Highway Bismarck, ND 58504, (701) 328-5375.
Ms. Mary Collins, SBDC State Director, University of New Hampshire, 201 Paul Hall, 10 Garrison Ave., Durham, NH 03824, (603) 862-2200 | Dr. James Petell, SBDC Interim State Director, University of Rhode Island, 75 Lower College Road, Kingston, RI 02881, (401) 874-4807.
Ms. Carol Lopucki, State Director, 1020 L. William Seidman Center, 50 Front Avenue SW., Grand Rapids, MI 49504, (616) 331-7480

FOR FURTHER INFORMATION CONTACT: Louis Peasley, Director of Financial Oversight, Office of Small Business Development Centers, U.S. Small Business Administration, 409 Third Street SW., Sixth Floor, Washington, DC 20416.

SUPPLEMENTARY INFORMATION:

Description of the SBDC Program

A partnership exists between SBA and an SBDC. SBDCs offer training, counseling and other business development assistance to small businesses. Each SBDC provides services under a negotiated Cooperative Agreement with the SBA. SBDCs operate on the basis of a state plan to provide assistance within a state or geographic area. The initial plan must have the written approval of the Governor. Non-Federal funds must match Federal funds. An SBDC must operate according to law, the Cooperative Agreement, SBA's regulations, the annual Program Announcement, and program guidance.

Program Objectives

The SBDC program uses Federal funds to leverage the resources of states, academic institutions and the private sector to:

(a) Strengthen the small business community;

(b) increase economic growth;

(c) assist more small businesses; and

(d) broaden the delivery system to more small businesses.

SBDC Program Organization

The lead SBDC operates a statewide or regional network of SBDC service centers. An SBDC must have a full-time Director. SBDCs must use at least 80 percent of the Federal funds to provide services to small businesses. SBDCs use volunteers and other low cost resources as much as possible.

SBDC Services

An SBDC must have a full range of business development and technical assistance services in its area of operations, depending upon local needs, SBA priorities and SBDC program objectives. Services include training and counseling to existing and prospective small business owners in management, marketing, finance, operations, planning, taxes, and any other general or technical area of assistance that supports small business growth.

The SBA district office and the SBDC must agree upon the specific mix of services. They should give particular attention to SBA's priority and special emphasis groups, including veterans, women, exporters, the disabled, and minorities.

SBDC Program Requirements

An SBDC must meet programmatic and financial requirements imposed by statute, regulations or its Cooperative Agreement. The SBDC must:

(a) locate service centers so that they are as accessible as possible to small businesses;

(b) open all service centers at least 40 hours per week, or during the normal business hours of its state or academic Host Organization, throughout the year;

(c) develop working relationships with financial institutions, the investment community, professional associations, private consultants and small business groups; and

(d) maintain lists of private consultants at each service center.

Carroll A. Thomas,
Associate Administrator, Office of Small Business Development Centers.

[FR Doc. 2014-17161 Filed 7-21-14; 8:45 am]

BILLING CODE 8025-01-P